DEPARTMENT OF TRANSPORTATION

Federal Aviation Administration

[Summary Notice No. PE-2001-71]

Petitions for Exemption; Summary of Dispositions of Petitions Issued

AGENCY: Federal Aviation Administration (FAA), DOT.

ACTION: Notice of dispositions of prior petitions.

SUMMARY: Pursuant to FAA's rulemaking provisions the application, processing, and disposition of petitions for exemption part 11 of title 14, Code of Federal Regulations (14 CFR), this notice contains a summary of dispositions of certain petitions previously received. The purpose of this notice is to improve the public's awareness of, and participation of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on September 18, 2001.
Richard McCurdy,
Acting Assistant Chief Counsel for Regulations.

Dispositions of Petitions

Docket No.: FAA-2001-9371 (previously Docket No. 29658).

Petitioner: Sunrise Airlines, Inc.

Section of 14 CFR Affected: 14 CFR 121.345(c)(2) and 135.143(c)(2).

Description of Relief Sought/Disposition: To permit Sunrise to operate certain aircraft under part 121 or part 135 without a TSO-C112 (Mode S) transponder installed in those aircraft. Grant, 08/29/2001, Exemption No. 7061A.

Docket No.: FAA-2001-9862 (previously Docket No. 29687).

Petitioner: Bright Star Aviation.

Section of 14 CFR Affected: 14 CFR 135.143(c)(2).

Description of Relief Sought/Disposition: To change the name of the exemption holder from R&M Aviation to Bright Star and to permit Bright Star to operate its Agusta A-109E helicopter (registration No. N97CH; serial NO. 11012) under part 135 without a TSAO-C112 (Mode S) transponder installed in those aircraft. Grant, 08/30/2001, Exemption No. 7078A.

Docket No.: FAA-2001-10058.

Petitioner: Rhoades Aviation, Inc.

Section of 14 CFR Affected: 14 CFR 135.143(c)(2).

Description of Relief Sought/Disposition: To permit Rhoades to operate certain aircraft under part 135 without a TSO-C112 (Mode S) transponder installed in those aircraft. Grant, 08/29/2001, Exemption No. 7614.

Docket No.: FAA-2001-9598 (previously Docket No. 29728).

Petitioner: Air Wilmington.

Section of 14 CFR Affected: 14 CFR 135.143(c)(2).

Description of Relief Sought/Disposition: To permit Air Wilmington to operate its Beechcraft King Air A90 (Registration No. N198BC, Serial No. LJ-147) under part 135 without a TSO-C112 (Mode S) transponder installed in those aircraft. Grant, 08/29/2001, Exemption No. 7060A.

Docket No.: FAA-2001-9494 (previously Docket No. 28918).

Petitioner: Cherry-Air, Inc.

Section of 14 CFR Affected: 14 CFR 135.143(c)(2).

Description of Relief Sought/Disposition: To permit Cherry-Air to operate certain aircraft under part 135 without a TSO-C112 (Mode S) transponder installed in those aircraft. Grant, 08/29/2001, Exemption No. 7036A.

Docket No.: FAA-2001-8806.

Petitioner: America West Airlines, Inc.

Section of 14 CFR Affected: 14 CFR 93.123.

Description of Relief Sought/Disposition: To permit Mesa Airlines, Inc., or any regional air carrier flying as America West Express, to conduct operations using any or all of America West's slots, allocated under the exemption for America West Express flights between Ronald Reagan Washington National Airport and Port Columbus International Airport. Grant, 08/30/2001, Exemption No. 5113J.

Docket No.: FAA-2001-10136.

Petitioner: EADS Airbus GmbH.

Section of 14 CFR Affected: 14 CFR 25.785(d), 25.813(b), 25.857(e), 25.1447(c)(1) and 35.1447(c)(2)(ii).

Description of Relief Sought/Disposition: To permit type certification of the Airbus Model A300B4-600/-600R series airplanes, with provisions for the carriage of supernumeraries when the airplane is equipped with two floor level exists with escape slides, within the occupied area. Grant, 08/30/2001, Exemption No. 7616.

Docket No.: FAA-2001-9410.

Petitioner: U.S. Air Force.

Section of 14 CFR Affected: 14 CFR 91.159.

Description of Relief Sought/Disposition: To permit the USAF to conduct nontraining photographic reconnaissance missions that require flying a series of tracks at a constant altitude under visual flight rules, without maintaining the appropriate cruising altitude required under § 91.159. Grant, 09/06/2001, Exemption No. 134J.

Docket No.: FAA-2001-9409.

Petitioner: U.S. Air Force.

Section of 14 CFR Affected: 14 CFR 91.159(c).

Description of Relief Sought/Disposition: To permit the USAF to operate certain aircraft under visual flight rules at or above flight level 600 without maintaining the appropriate cruising altitude as required under § 91.159(c). Grant, 09/06/2001, Exemption No. 103E.

[FR Doc. 01-23775 Filed 9-21-01; 8:45 am]

BILLING CODE 4910-13-M